INTERNATIONAL TRADE COMMISSION

[USITC SE-18-015]

Government in the Sunshine Act Meeting Notice

Agency Holding the Meeting: United States International Trade Commission.

Time and Date: March 23, 2018 at 11:00 a.m.

Place: Room 101, 500 E Street SW, Washington, DC 20436, Telephone: (202) 205-2000.

Status: Open to the public.

Matters to be Considered:

1. Agendas for future meetings: None.

2. Minutes.

3. Ratification List.

4. Vote in Inv. Nos. 701-TA-567-569 and 731-TA-1343-1345 (Final)(Silicon Metal from Australia, Brazil, Kazakhstan, and Norway). The Commission is currently scheduled to complete and file its determinations and views of the Commission by April 10, 2018.

5. Outstanding action jackets: None.

In accordance with Commission policy, subject matter listed above, not disposed of at the scheduled meeting, may be carried over to the agenda of the following meeting.

By order of the Commission.
Issued: March 13, 2018.
William R. Bishop,
Supervisory Hearings and Information Officer.

[FR Doc. 2018-05463 Filed 3-14-18; 11:15 am]

BILLING CODE 7020-02-P